DEPARTMENT OF TRANSPORTATION

Federal Aviation Administration

14 CFR Part 39

[Docket No. FAA-2016-9051; Directorate Identifier 2016-NM-035-AD; Amendment 39-18828; AD 2017-06-04]

RIN 2120-AA64

Airworthiness Directives; Airbus Airplanes

AGENCY: Federal Aviation Administration (FAA), Department of Transportation (DOT).

ACTION: Final rule.

SUMMARY: We are adopting a new airworthiness directive (AD) for all Airbus Model A300 B4-603, B4-620, and B4-622 airplanes; Model A300 B4-605R and A300 B4-622R airplanes; and Model A300 C4-605R Variant F airplanes. This AD was prompted by an in-service detection of cracks in the fuselage skin lap joints. This AD requires an ultrasonic inspection of certain skin lap joints, and repair if necessary. We are issuing this AD to address the unsafe condition on these products.

DATES: This AD is effective May 1, 2017.

The Director of the Federal Register approved the incorporation by reference of a certain publication listed in this AD as of May 1, 2017.

ADDRESSES: For service information identified in this final rule, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2016-9051.

Examining the AD Docket

You may examine the AD docket on the Internet at http://www.regulations.gov by searching for and locating Docket No. FAA-2016-9051; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Dan Rodina, Aerospace Engineer, International Branch, ANM-116, Transport Airplane Directorate, FAA, 1601 Lind Avenue SW., Renton, WA 98057-3356; telephone 425-227-2125; fax 425-227-1149; email dan.rodina@faa.gov.

SUPPLEMENTARY INFORMATION:

Discussion

We issued a notice of proposed rulemaking (NPRM) to amend 14 CFR part 39 by adding an AD that would apply to all Airbus Model A300 B4-603, B4-620, and B4-622 airplanes; Model A300 B4-605R and A300 B4-622R airplanes; and Model A300 C4-605R Variant F airplanes. The NPRM published in the Federal Register on August 30, 2016 (81 FR 59530) (“the NPRM”).

The European Aviation Safety Agency (EASA), which is the Technical Agent for the Member States of the European Union, has issued EASA Airworthiness Directive 2016-0057, dated March 18, 2016 (referred to after this as the Mandatory Continuing Airworthiness Information, or “the MCAI”), to correct an unsafe condition for all Airbus Model A300 B4-603, B4-620, and B4-622 airplanes; Model A300 B4-605R and A300 B4-622R airplanes; and Model A300 C4-605R Variant F airplanes. The MCAI states:

Prompted by in-service detection on Airbus A300-600 aeroplanes of cracks in certain fuselage skin lap joints, several studies were launched to understand the phenomenon and provide the corrective actions. More recently, new analyses were performed and the results identified that a new area has to be inspected at the skin lap joint below Stringer (STR) 28 at Frame (FR) 72 to FR 76.

This condition, if not detected and corrected, could result in reduced structure integrity of the aeroplane.

To address this unsafe condition, Airbus published Service Bulletin (SB) A300-53-6184 [dated November 12, 2015] to introduce [ultrasonic] inspections and applicable corrective actions for the affected areas.

For the reason described above, this [EASA] AD requires repetitive Special Detail Inspections (SDI) of the affected skin lap joint and, depending on findings, accomplishment of applicable corrective action(s) [repairs].

You may examine the MCAI in the AD docket on the Internet at http://www.regulations.gov by searching for and locating Docket No. FAA-2016-9051.

Comments

We gave the public the opportunity to participate in developing this AD. The following presents the comments received on the NPRM and the FAA's response to each comment.

Request To Make the Reporting Requirement Optional

FedEx requested that the reporting requirements in Airbus Service Bulletin A300-53-6184, dated November 12, 2015, be specified in the AD as optional. FedEx stated that Airbus has received these reports regularly in the past and they have not provided industry statistics or benefits to the operators.

We agree that reporting is not necessary in this AD. The report in Airbus Service Bulletin A300-53-6184, dated November 12, 2015, is designed to report crack findings. Crack findings are addressed by paragraph (h) of this AD.

Because reporting is specified within the procedures of Airbus Service Bulletin A300-53-6184, dated November 12, 2015, we have revised this AD by adding paragraph (i) to specify no reporting is required. We have redesignated subsequent paragraphs accordingly.

Request To Include Inspection as an Airworthiness Limitation

FedEx stated the inspection is best fitted for a maintenance program and should be included in an airworthiness limitation document.

We do not agree with the commenter. Airbus Service Bulletin A300-53-6184, dated November 12, 2015, has been issued to address in-service findings, which can lead to an unsafe condition. For this case, no airworthiness limitation instructions were introduced by Airbus. To delay this action until airworthiness limitations were developed would be inappropriate, since we have determined that an unsafe condition exists and that inspections must be conducted to ensure continued safety. We have not changed this AD in this regard.

Conclusion

We reviewed the relevant data, considered the comments received, and determined that air safety and the public interest require adopting this AD with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

We reviewed Airbus Service Bulletin A300-53-6184, dated November 12, 2015. The service information describes procedures for an ultrasonic inspection of the skin lap joint below STR 28 at FR 72 to FR 76, and repair if necessary. This service information is reasonably available because the interested parties have access to it through their normal course of business or by the means identified in the ADDRESSES section.

Costs of Compliance

We estimate that this AD affects 29 airplanes of U.S. registry.

We estimate the following costs to comply with this AD:

Estimated Costs
Action | Labor cost | Cost per product | Cost on U.S. operators
Ultrasonic inspection | 6 work-hours × $85 per hour = $510 per inspection cycle | $510 per inspection cycle | $14,790 per inspection cycle.

We have no way to determine the costs to do any necessary repairs that will be required based on the results of the inspection. We have no way of determining the number of airplanes that might need these repairs.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-06-04 Airbus: Amendment 39-18828; Docket No. FAA-2016-9051; Directorate Identifier 2016-NM-035-AD.

(a) Effective Date

This AD is effective May 1, 2017.

(b) Affected ADs

None.

(c) Applicability

This AD applies to all Airbus Model A300 B4-603, B4-620, and B4-622 airplanes; Model A300 B4-605R and A300 B4-622R airplanes; and Model A300 C4-605R Variant F airplanes, certificated in any category.

(d) Subject

Air Transport Association (ATA) of America Code 53, Fuselage.

(e) Reason

This AD was prompted by an in-service detection of cracks in the fuselage skin lap joints. We are issuing this AD to detect and correct cracks in the skin lap joint below stringer (STR) 28 at frame (FR) 72 to FR 76. Such cracking could result in reduced structural integrity of the airplane.

(f) Compliance

Comply with this AD within the compliance times specified, unless already done.

(g) Repetitive Inspections

Before 29,500 flight cycles since the first flight of the airplane, or within 2,000 flight cycles after the effective date of this AD, whichever occurs later, do an ultrasonic inspection for cracks of the skin lap joint below STR 28 at FR 72 to FR 76 and do all applicable repairs before further flight, in accordance with the Accomplishment Instruction of Airbus Service Bulletin A300-53-6184, dated November 12, 2015, except as required by paragraph (h) of this AD. Repeat the ultrasonic inspection thereafter at intervals not to exceed 5,400 flight cycles.

(h) Exceptions to Service Information Specified in Paragraph (g) of This AD

Where Airbus Service Bulletin A300-53-6184, dated November 12, 2015, specifies to contact Airbus for repair instructions, and specifies that action as “RC” (Required for Compliance), this AD requires repair before further flight using a method approved in accordance with the procedures specified in paragraph (j) of this AD.

(i) No Reporting Requirement

Although Airbus Service Bulletin A300-53-6184, dated November 12, 2015, specifies to submit certain information to the manufacturer, and specifies that action as RC, this AD does not include that requirement.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149; email dan.rodina@faa.gov. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Required for Compliance (RC): Except as required by paragraphs (h) and (i) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

Refer to Mandatory Continuing Airworthiness Information (MCAI) EASA AD 2016-0057, dated March 18, 2016, for related information. This MCAI may be found in the AD docket on the Internet at http://www.regulations.gov by searching for and locating Docket No. FAA-2016-9051.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A300-53-6184, dated November 12, 2015.

(ii) Reserved.

(3) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on March 8, 2017.
Michael Kaszycki,
Acting Manager, Transport Airplane Directorate, Aircraft Certification Service.

[FR Doc. 2017-05231 Filed 3-24-17; 8:45 am]

BILLING CODE 4910-13-P